DEPARTMENT OF JUSTICE

Notice of Lodging of Consent Decree Under the Comprehensive Environmental Response, Compensation and Liability Act

Under 28 CFR 50.7, notice is hereby given that on December 30, 2003, a proposed consent decree in United States v. Winitsky Associates, Civil Action No. 2:03-cv-6935, was lodged with the United States District Court for the Eastern District of Pennsylvania.

In this action the United States sought response costs pursuant to the Comprehensive Environmental Response, Compensation and Liability Act (“CERCLA”), 42 U.S.C. 9601 eq seq., in connection with the East Tenth Street Superfund Site (“Site”) in Delaware County, Pennsylvania. The proposed consent decree will resolve the United States' claims against Winitsky Associates (“Settling Defendant”) in connection with the portion of the Site operated by Settling Defendant. Under the terms of the proposed consent decree, Settling Defendant will pay the United States $248,531.68 and will receive a Site-wide covenant not to sue by the United States under Sections 106 and 107(a) of CERCLA, 42 U.S.C. 9606 and 9607(a).

The Department of Justice will receive for a period of thirty (30) days from the date of this publication comments relating to the proposed consent decree. Comments should be addressed to the Assistant Attorney General, Environment and Natural Resources Division, P.O. Box 7611, U.S. Department of Justice, Washington, DC 20044-7611, and should refer to United States v. Winitsky Associates, D.J. Ref. 90-11-3-06583.

The proposed consent decree may be examined at the Office of the United States Attorney, 615 Chestnut Street, Suite 1250, Philadelphia, PA 19106, and at U.S. EPA Region III, 1650 Arch Street, Philadelphia, PA 19103. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury.

Robert Brook,
Assistant Chief, Environmental Enforcement Section, Environment and Natural Resources Division.

[FR Doc. 04-335 Filed 1-6-04; 8:45 am]

BILLING CODE 4410-15-M